DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 24, 2007.

Interested persons are invited to submit written comments regarding the subject matter of the investigations to the Director, Division of Trade Adjustment Assistance, at the address shown below, not later than August 24, 2007. The petitions filed in this case are available for inspection at the Office of the Director, Division of Trade Adjustment Assistance, Employment and Training Administration, U.S. Department of Labor, Room C-5311, 200 Constitution Avenue, NW., Washington, DC 20210.

Signed at Washington, DC, this 7th day of August 2007.
Linda G. Poole,
Certifying Officer, Division of Trade Adjustment Assistance.

Appendix
[TAA petitions instituted between 7/30/07 and 8/3/07]
TA-W | Subject firm (petitioners) | Location | Date of institution | Date of petition
61893 | G and K Services, Inc. (Comp) | Laurel, MS | 07/30/07 | 07/25/07
61894 | Fry's Metals, Inc. (Comp) | Altoona, PA | 07/30/07 | 07/26/07
61895 | GF Office Furniture (TN AFL) | Gallatin, TN | 07/30/07 | 07/27/07
61896 | Brookwood Furniture Co., Inc. (Wrks) | Pontotoc, MS | 07/30/07 | 07/20/07
61897 | Managed Business Solutions, LLC (Wrks) | Fort Collins, CO | 07/30/07 | 07/24/07
61898 | Welco Lumber Company (Wrks) | Shelton, WA | 07/30/07 | 07/27/07
61899 | Ortronics, Inc. (Wrks) | Dallas, NC | 07/30/07 | 07/27/07
61900 | BorgWarner (Comp) | Sallisaw, OK | 07/30/07 | 07/24/07
61901 | Woodgrain Millworks (Wkrs) | White City, OR | 07/31/07 | 07/30/07
61902 | Gates Corporation (Wkrs) | Moncks Corner, SC | 07/31/07 | 07/30/07
61903 | TTM Technologies (Comp) | Chippewa Falls, WI | 07/31/07 | 07/24/07
61904 | Recon Automotive Remanufactors (Wkrs) | Philadelphia, PA | 07/31/07 | 07/23/07
61905 | The Boeing Company (AFLCIO) | Oak Ridge, TN | 07/31/07 | 07/06/07
61906 | Intec Group (Wkrs) | Morocco, IN | 07/31/07 | 07/27/07
61907 | Progressive Furniture, Inc. (Comp) | Claremont, NC | 07/31/07 | 07/30/07
61908 | Paulstra Company (Wkrs) | Grand Rapids, MI | 07/31/07 | 07/27/07
61909 | Rotation Dynamics (Wkrs) | Chicago, IL | 07/31/07 | 07/11/07
61910 | Trice Technologies Corporation (Wkrs) | Brownsville, TX | 07/31/07 | 07/30/07
61911 | Tembec (State) | St Francisville, LA | 08/01/07 | 07/31/07
61912 | Zach Hosiery, Inc. (Comp) | Thomasville, NC | 08/01/07 | 07/31/07
61913 | Sumersault Manufacturing Corp. (Comp) | Closter, NJ | 08/01/07 | 07/31/07
61914 | Amandi Services Inc. (Comp) | Mt. Pleasant, PA | 08/01/07 | 07/31/07
61915 | Vanson Leathers, Inc. (State) | Fall River, MA | 08/02/07 | 08/01/07
61916 | Honeywell International (Comp) | Fostoria, OH | 08/02/07 | 07/30/07
61917 | Millennium Speciality Chemicals (Comp) | Baltimore, MD | 08/02/07 | 08/01/07
61918 | Apparel Group (The)/Foxcroft Sportswear (State) | Fall River, MD | 08/02/07 | 08/01/07
61919 | Wakefield Engineering (State) | Fall River, MA | 08/02/07 | 08/01/07
61920 | Unit Parts Company (Comp) | Edmond, OK | 08/02/07 | 07/30/07
61921 | Whaling Manufacturing Co., Inc. (Comp) | Fall River, MA | 08/02/07 | 07/31/07
61922 | Urban Industries of Ohio, Inc. (Comp) | Galion, OH | 08/02/07 | 08/01/07
61923 | CHF Industries (State) | Fall River, MA | 08/02/07 | 08/01/07
61924 | Domtar (State) | Baileyville, ME | 08/02/07 | 07/31/07
61925 | Ansell (Comp) | Tarboro, NC | 08/02/07 | 08/01/07
61926 | Wellstone Mills (Comp) | Eufaula, AL | 08/02/07 | 08/01/07
61927 | C-Tech Industries (Wkrs) | Calumet, MI | 08/02/07 | 08/01/07
61928 | Seatply Inc. (Comp) | Jeffersonville, IN | 08/02/07 | 08/01/07
61929 | Ametek, Inc. (Comp) | Grand Junction, CO | 08/03/07 | 08/02/07
61930 | Astro American Chemical Co., Inc. (Comp) | Fountain Inn, SC | 08/03/07 | 08/01/07
61931 | Tyco Electronics (Comp) | East Berlin, PA | 08/03/07 | 08/02/07

[FR Doc. E7-15847 Filed 8-13-07; 8:45 am]

BILLING CODE 4510-FN-P